Memorandum of September 29, 2015

Delegation of Authority Under Sections 506(a)(1) and 552(c)(2) of the Foreign Assistance Act of 1961

Memorandum for the Secretary of State

By the authority vested in me as President by the Constitution and the laws of the United States of America, including section 301 of title 3, United States Code, I hereby delegate to the Secretary of State:

(1) The authority under section 506(a)(1) of the Foreign Assistance Act of 1961 (FAA) to direct the drawdown of up to $20 million in defense articles and services of the Department of Defense and military education and training to provide assistance for the Government of Ukraine, and to make the determinations required under such section to direct such a drawdown; and

(2) The authority under section 552(c)(2) of the FAA to direct the drawdown of up to $1.5 million in nonlethal commodities and services from any agency of the United States Government to provide assistance for the Government of Ukraine, and to make the determinations required under such section to direct such a drawdown.

You are authorized and directed to publish this memorandum in the Federal Register.

THE WHITE HOUSE,

Washington, September 29, 2015

[FR Doc. 2015-26109

Filed 10-9-15; 8:45 am]

Billing code 4710-10-P